DEPARTMENT OF THE TREASURY

United States Mint

Establish New and Updated Prices for United States Mint Numismatic Products

AGENCY: United States Mint, Department of the Treasury.

ACTION: Notice.

SUMMARY: The United States Mint is announcing new and updated pricing for its numismatic products in accordance with the table below, effective January 20, 2026:

Product | New retail price
2018 American Innovation $1 Proof Coin | $40.00
American Innovation $1 Reverse Proof Coin | 40.00
American Innovation $1 25-Coin Roll (P or D) | 61.00
American Innovation $1 100-COIN BAG | 154.50
American Innovation $1 Proof Set | 60.00
American Innovation $1 Reverse Proof Set | 60.00
AWQ QTR 100-Coin Bag (P or D) | 63.00
AWQ QTR 3-Roll Set (P, D, & S) | 84.00
AWQ QTR Proof Set | 44.00
AWQ QTR Silver Proof Set | 130.00
Native American $1 25-Coin Roll (P or D) | 61.00
Native American $1 250-Coin Box (P or D) | 380.00
Native American $1 100-Coin Bag (P or D) | 154.50
Kennedy Half-Dollar 200 Coin Bag (P&D) | 180.00
Kennedy Half-Dollar 2-Roll Set (P&D) | 60.00
American Eagle 1 oz Silver Proof Coin (W, S) | 173.00
American Eagle 1 oz Silver Uncirculated Coin (W) | 169.00
American Liberty Silver Medal™ | 170.00
United States Mint Proof Set® | 107.00
United States Mint Silver Proof Set® | 245.00
United States Mint Congratulations Set | 175.00
Uncirculated Set | 124.50
American Women Quarters Silver Proof Set™ | 130.00
Morgan Dollar—Silver Proof | 173.00
Morgan Dollar—Silver Uncirculated | 169.00
Peace Dollar—Silver Proof | 173.00
Peace Dollar—Silver Uncirculated | 169.00
Morgan and Peace Two-Coin Silver Reverse Proof Set | 375.00
Limited Edition Silver Proof Set | 400.00
Armed Forces 1 oz Silver Medal (all skus) | 164.00
1 oz Presidential Silver Medal (all skus) | 164.00
Comic Art 1 Ounce Silver Medal | 200.00
Comic Art 2.5 Ounce Silver Medal | 400.00

FOR FURTHER INFORMATION CONTACT: Kai Washington, Product Manager; United States Mint; 801 9th Street NW, Washington, DC 20220; or call 1-202-354-7662.

(Authority: 31 U.S.C. 5111, 5112, 5132, 9701.)

Eric Anderson,
Executive Secretary, United States Mint.

[FR Doc. 2026-02405 Filed 2-5-26; 8:45 am]

BILLING CODE 4810-37-P